DEPARTMENT OF HEALTH AND HUMAN SERVICES

Centers for Disease Control and Prevention

[30Day-08-0008]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-6974. Written comments should be received within 30 days of this notice.

Proposed Project

Hazardous Substances Emergency Events Surveillance (HSEES)—Extension—(OMB Control #0923-0008), Agency for Toxic Substances and Disease Registry (ATSDR), Centers for Disease Control and Prevention (CDC).

Background and Brief Description

The Agency for Toxic Substances and Disease Registry (ATSDR) is mandated pursuant to the 1980 Comprehensive Environmental Response Compensation and Liability Act (CERCLA) and its 1986 Amendments, The Superfund Amendments and Reauthorization Act (SARA), to prevent or mitigate adverse human health effects and diminished quality of life resulting from the exposure to hazardous substances into the environment. The primary purpose of this activity, which ATSDR has supported since 1992, is to develop, implement, and maintain a state-based surveillance system for hazardous substances emergency events which can be used to (1) describe the distribution of the hazardous substances releases; (2) describe the public health consequences (morbidity, mortality, and evacuations) associated with the events; (3) develop strategies to reduce future public health consequences. The study population will consist of all hazardous substance non-permitted acute releases within the 14 states (Colorado, Florida, Iowa, Louisiana, Michigan, Minnesota, New Jersey, New York, North Carolina, Oregon, Texas, Utah, Washington, and Wisconsin) participating in the surveillance system.

Until this system was developed and implemented, there was no national public health-based surveillance system to coordinate the collation, analysis, and distribution of hazardous substances emergency release data to public health practitioners. It was necessary to establish this national surveillance system which describes the public health impact of hazardous substances emergencies on the health of the population of the United States. The data collection form will be completed by the state health department Hazardous Substances Emergency Events Surveillance (HSEES) coordinator using a variety of sources including written and oral reports from environmental protection agencies, police, firefighters, emergency response personnel; or researched by the HSEES coordinator using material safety data sheets, and chemical handbooks. There is a reduction in the annual burden hours per response because of the reduction in number of states from 15 to 14 and because of a change in the case definition of an HSEES event in 2005, which excludes stack emissions of oxides of nitrogen (NOX), oxides of sulfur (SOx), and carbon monoxide (CO) when they are not mixed with another hazardous substance.

The HSEES public use data set is available on the ATSDR HSEES Web site. Interested parties complete a brief description of who will be using the data and for what purpose in order to download the data. This allows ATSDR to widely distribute the data and track its usefulness. The estimated annual burden hours are 5,678.

There is no cost to the respondents other than their time.

Estimated Annualized Burden Hours:

Respondents | Number of respondents | Number of responses per respondent | Average burden per response (in hours)
Participating State Health Department HSEES Coordinators | 14 | 536 | 45/60
Persons interested in HSEES data through Web site | 500 | 1 | 6/60

Dated: March 18, 2008.
Marilyn S. Radke,
Reports Clearance Officer, Centers for Disease Control and Prevention.

[FR Doc. E8-5862 Filed 3-21-08; 8:45 am]

BILLING CODE 4163-18-P